DEPARTMENT OF COMMERCE

Bureau of Industry and Security

Emerging Technology and Research Advisory Committee; Notice of Partially Closed Meeting

The Emerging Technology and Research Advisory Committee (ETRAC) will meet on February 10, 2009, 1:15 p.m., Room 4830, in the Herbert C. Hoover Building, 14th Street between Pennsylvania and Constitution Avenues, NW., Washington, DC. The Committee advises the Office of the Assistant Secretary for Export Administration on emerging technology and research activities, including those related to deemed exports.

Agenda:

Open Session

1. BIS Export Enforcement (EE)—deemed export rules for dual-use technologies subject to EAR over 5 years.

• Describe the levels of violations; prime reasons for violations; prime reasons for violations.

• Typical EE responses

• Frequency of prosecution

• Real life examples

2. ISTAC, MTAC briefings

• Approaches BIS/TACs use in identifying, ranking, or prioritizing technologies in terms of importance, sensitivity, availability, etc.

• Describe decision trees, process models, systematic processes individual TACs.

• Discuss methods TACs use to identify, rank, or prioritize technologies that might be subject to deemed export regulations.

• Describe types of guidance and tools BIS provides to TACs to enable sound decision making on imposition or relaxation of deemed export regulations.

3. Public Comments and Questions.

Closed Session

4. Discussion of matters determined to be exempt from the provisions relating to public meetings found in 5 U.S.C. app. 2 §§ 10(a)(1) and 10(a)(3).

The open session will be accessible via teleconference to 20 participants on a first come, first served basis. To join the conference, submit inquiries to Ms. Yvette Springer at Yspringer@bis.doc.gov no later than February 3, 2009.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

The Assistant Secretary for Administration, with the concurrence of the delegate of the General Counsel, formally determined on January 14, 2009, pursuant to Section 10(d) of the Federal Advisory Committee Act, as amended (5 U.S.C. app. 2 §§ (10)(d)), that the portion of the meeting dealing with matters the disclosure of which would be likely to frustrate significantly implementation of an agency action as described in 5 U.S.C. 552b(c)(9)(B) shall be exempt from the provisions relating to public meetings found in 5 U.S.C. app. 2 §§ 10(a)1 and 10(a)(3). The remaining portions of the meeting will be open to the public. For more information, call Yvette Springer at (202) 482-2813.

Dated: January 15, 2009.
Yvette Springer,
Committee Liaison Officer.

[FR Doc. E9-1253 Filed 1-22-09; 8:45 am]

BILLING CODE 3510-JT-P